DEPARTMENT OF VETERANS AFFAIRS

Performance Review Board Members

AGENCY: Corporate Senior Executive Management Office, Department of Veterans Affairs.

ACTION: Notice.

SUMMARY: Under the provisions of 5 U.S.C. 4314(c)(4) agencies are required to publish a notice in the Federal Register of the appointment of Performance Review Board (PRB) members. This notice announces the appointment of persons to serve on the Performance Review Board of the Department of Veterans Affairs.

DATES: Effective date: January 17, 2014.

ADDRESSES: Corporate Senior Executive Management Office, Department of Veterans Affairs, 810 Vermont Avenue NW., Washington, DC 20420.

FOR FURTHER INFORMATION CONTACT: Contact William Atkinson, Deputy Director, Corporate Senior Executive Management Office (052), Department of Veterans Affairs, 810 Vermont Avenue NW., Washington, DC 20420, (202) 461-5928.

SUPPLEMENTARY INFORMATION: The membership of the Department of Veterans Affairs Performance Review Board is as follows:

Steve Muro (Chair)

Rita Clinton

Laura Eskenazi

Will A. Gunn

Robert Jesse

Danny Pummill

Robert Snyder

The Secretary of Veterans Affairs approved this document on December 17, 2013, and authorized the undersigned to sign and submit the document to the Office of the Federal Register for publication electronically as an official document of the Department of Veterans Affairs.

Authority: 5 U.S.C. 4314(c)(4).

Dated: January 15, 2014.
Robert C. McFetridge,
Director, Regulation Policy and Management, Office of the General Counsel, Department of Veterans Affairs.

[FR Doc. 2014-01030 Filed 1-16-14; 8:45 am]

BILLING CODE 8320-01-P